DEPARTMENT OF THE INTERIOR

National Park Service

[NPS-WASO-NAGPRA-NPS0037341; PPWOCRADN0-PCU00RP14.R50000]

Notice of Intent To Repatriate Cultural Items: Central Washington University, Ellensburg, WA

AGENCY: National Park Service, Interior.

ACTION: Notice.

SUMMARY: In accordance with the Native American Graves Protection and Repatriation Act (NAGPRA), Central Washington University intends to repatriate certain cultural items that meet the definition of unassociated funerary objects and that have a cultural affiliation with the Indian Tribes or Native Hawaiian organizations in this notice. The cultural items were removed from Grant, Kittitas, and Yakima County, WA.

DATES: Repatriation of the cultural items in this notice may occur on or after March 11, 2024.

ADDRESSES: Lourdes Henebry-DeLeon, Department of Anthropology and Museum Studies, Central Washington University, 400 University Way, Ellensburg, WA 98926-7544, telephone (509) 963-2671, email Lourdes.Henebry-DeLeon@cwu.edu.

SUPPLEMENTARY INFORMATION: This notice is published as part of the National Park Service's administrative responsibilities under NAGPRA. The determinations in this notice are the sole responsibility of Central Washington University. The National Park Service is not responsible for the determinations in this notice. Additional information on the determinations in this notice, including the results of consultation, can be found in the summary or related records held by Central Washington University.

Description

Between 1913 and 1943, 51 lots of unassociated funerary objects were removed from burial sites along the Columbia River in Grant, Kittitas, and Yakima Counties in Washington. They were excavated by Dr. Linus Walker, a private collector from Ellensburg, Kittitas County, WA, who donated most of his collection to Central Washington University in 1953. The 51 lots of unassociated funerary objects are 1 lot of adzes, 1 lot of anchor stones, 1 lot of war clubs, 1 lot of knives, 1 lot mortars, 3 lots of paint cups, 2 lots of ochre, 7 lots of pestles, 2 lots of pipes, 16 lots of modified shell, 10 lots of trade beads, 1 lot of manos, 1 lot of net sinkers, 1 lot of whetstones, 1 lot of hammers, 1 lot of faunal material, and 1 lot modified sandstone.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archaeological, geographical, historical, and expert opinion.

Determinations

Pursuant to NAGPRA and its implementing regulations, and after consultation with the appropriate Indian Tribes and Native Hawaiian organizations, Central Washington University has determined that:

• The 51 lots of cultural items described above are reasonably believed to have been placed with or near individual human remains at the time of death or later as part of the death rite or ceremony and are believed, by a preponderance of the evidence, to have been removed from a specific burial site of a Native American individual.

• There is a relationship of shared group identity that can be reasonably traced between the cultural items and the Confederated Tribes and Band of the Yakama Nation and the Confederated Tribes of the Colville Reservation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization and, if joined to a request from one or more of the Indian Tribes, the Wanapum Band of Priest Rapids, a non-federally recognized Indian group.

Repatriation of the cultural items in this notice to a requestor may occur on or after March 11, 2024. If competing requests for repatriation are received, the Central Washington University must determine the most appropriate requestor prior to repatriation. Requests for joint repatriation of the cultural items are considered a single request and not competing requests. Central Washington University is responsible for sending a copy of this notice to the Indian Tribes and Native Hawaiian organizations identified in this notice.

This notice was submitted on or after the effective date of the revised regulations (88 FR 86452, December 13, 2023, effective January 12, 2024). As the notice conforms to the mandatory format of the Federal Register and includes the required information, the National Park Service is publishing this notice as submitted.

Authority: Native American Graves Protection and Repatriation Act, 25 U.S.C. 3004, and the implementing regulations, 43 CFR 10.9.

Dated: February 1, 2024.
Melanie O'Brien,
Manager, National NAGPRA Program.

[FR Doc. 2024-02549 Filed 2-7-24; 8:45 am]

BILLING CODE 4312-52-P